DEPARTMENT OF COMMERCE

Foreign-Trade Zones Board

[B-73-2012]

Foreign-Trade Zone 181—Akron/Canton, OH, Notification of Proposed Production Activity, Cimbar Performance Minerals, (Barium Sulfate Grinding), Wellsville, OH

The Northeast Ohio Trade & Economic Consortium, grantee of FTZ 181, submitted a notification of proposed production activity on behalf of Cimbar Performance Minerals (Cimbar), located in Wellsville, Ohio. The notification conforming to the requirements of the regulations of the Board (15 CFR 400.22) was received on October 10, 2012.

The Cimbar facility is located within Site 12 of FTZ 181. The facility is used for the grinding of raw barium sulfate into ground barium sulfate. Production under FTZ procedures could exempt Cimbar from customs duty payments on the foreign status components used in export production. On its domestic sales, Cimbar would be able to choose the duty rates during customs entry procedures that apply to ground barite (duty free) for the foreign status inputs noted below. Customs duties also could possibly be deferred or reduced on foreign status production equipment. Components and materials sourced from abroad include raw barium sulfate (duty rate of $1.25 per metric ton).

Public comment is invited from interested parties. Submissions shall be addressed to the Board's Executive Secretary at the address below. The closing period for their receipt is November 26, 2012.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Christopher J. Kemp at Christopher.Kemp@trade.gov or (202) 482-0862.

Dated: October 10, 2012.
Elizabeth Whiteman,
Acting Executive Secretary.

[FR Doc. 2012-25460 Filed 10-15-12; 8:45 am]

BILLING CODE P